NATIONAL SCIENCE FOUNDATION

Advisory Committee for Geosciences; Notice of Meeting

In accordance with the Federal Advisory Committee Act (Pub. L. 92-463, as amended), the National Science Foundation announces the following meeting:

Name: Advisory Committee for Geosciences (1755).

Dates: April 14, 2010; 8:30 a.m.-5 p.m.

April 15, 2010 8:30, a.m.-1:30 p.m.

Place: Stafford I, Room 1235, National Science Foundation, 4201 Wilson Blvd., Arlington, Virginia. 22230.

Type of Meeting: Open.

Contact Person: Melissa Lane, National Science Foundation, Suite 705, 4201 Wilson Blvd., Arlington, Virginia 22230. Phone 703-292-8500.

Minutes: May be obtained from the contact person listed above.

Purpose of Meeting: To provide advice, recommendations, and oversight concerning support for environmental research and education.

Agenda

April 14

• Directorate activities and plans

• Division Subcommittee Meetings

• Education & Diversity Subcommittee Meeting

• Meeting with the Director

April 15

• Discussion of GEO International Activities

• Discussion of FY 2011 NSF Investments

• Subcommittee Reports

• Action Items/Planning for Fall Meeting

Dated: March 16, 2010.
Susanne Bolton,
Committee Management Officer.

[FR Doc. 2010-6096 Filed 3-18-10; 8:45 am]

BILLING CODE 7555-01-P